ENVIRONMENTAL PROTECTION AGENCY

[FRL-9710-5]

Notice of Proposed Administrative Settlement Pursuant to the Comprehensive Environmental Response, Compensation, and Liability Act, As Amended; Anaconda Copper Mine Site

AGENCY: Environmental Protection Agency.

ACTION: Notice, request for public comments.

SUMMARY: In accordance with Section 122(i) of the Comprehensive Environmental Response, Compensation, and Liability Act (“CERCLA”), as amended, 42 U.S.C. 9622(i), notice is hereby given of a proposed Settlement Agreement and Order on Consent for Removal Action by Bona Fide Administrative Agreement for Recovery of Past Response Costs (“Agreement,” Region 9 Docket No. 9-2012-07) pursuant to Section 122(h) of CERCLA concerning the ANACONDA COPPER MINE SITE (the “Site”), located in Yerington, Lyon County, Nevada. The respondent is Singatse Peak Services (“Respondent”). Through the proposed Agreement, the Respondent will fund up to $420,000 toward a response action by EPA to address releases from the Arimetco heap leach fluid management system (“FMS”). Respondent will conduct a study to assess options to ensure approximately five years of fluid capacity in the FMS, and may pay toward any response to implement a selected option. The Agreement provides Respondent with a covenant not to sue for past costs at the Site and response actions funded in the Agreement, as well as contribution protection. For thirty (30) days following the date of publication of this Notice, the Agency will receive written comments relating to the proposed Agreement, and EPA's responses to comments received will be available for public inspection at EPA's Region IX offices, located at 75 Hawthorne Street, San Francisco, California 94105.

DATES: Comments must be submitted on or before September 4, 2012.

ADDRESSES: The proposed Agreement may be obtained from Bryan Goodwin, in the Office of Regional Counsel, telephone (415) 972-3686. Comments regarding the proposed Agreement should be addressed to Mr. Goodwin at the U.S. Environmental Protection Agency (ORC-3), 75 Hawthorne Street, San Francisco, California 94105, and should reference the Singatse Peak Services Agreement for the Anaconda Copper Mine Site, and Region IX Docket No. 9-2012-07.

FOR FURTHER INFORMATION CONTACT: Andrew Helmlinger, Office of Regional Counsel, (415) 972-3904, U.S. Environmental Protection Agency, Region 9, 75 Hawthorne Street, San Francisco, CA 94105.

Dated: July 23, 2012.
Jane Diamond,
Director, Superfund Division.

[FR Doc. 2012-18870 Filed 8-1-12; 8:45 am]

BILLING CODE 6560-50-P